DEPARTMENT OF LABOR

Employment and Training Administration

Invitation To Comment on Proposed Changes to UI Performs

AGENCY: Employment and Training Administration, Labor.

ACTION: Notice and opportunity to comment on proposed changes to UI Performs.

SUMMARY: The Employment and Training Administration (ETA) is soliciting comments concerning proposed changes to UI Performs, the Unemployment Insurance (UI) performance measurement system. An intensive review of the system was undertaken when the system had been operating for five years. Based on that review, ETA is proposing changes that will result in improved performance measurement and allow state UI managers to better focus attention on the most critical program areas.

DATES: Written comments must be submitted to the office listed in the Addresses section below on or before August 16, 2004.

ADDRESSES: Comments should be addressed to: Cheryl Atkinson, Administrator, Unemployment Insurance Service, U.S. Department of Labor, Employment and Training Administration, Room S-4231, 200 Constitution Avenue NW., Washington, DC 20210. Comments by e-mail are welcome. (See FOR FURTHER INFORMATION CONTACT.)

FOR FURTHER INFORMATION CONTACT: Darlyne Bryant, Chief, Division of Performance Review, Unemployment Insurance Service, U.S. Department of Labor, Employment and Training Administration, 200 Constitution Avenue NW., Washington, DC 20210, 202-693-2559, or Geri Oberloh, who can be contacted at the same address or at 202-693-3194. (These are not toll free numbers.) E-mail comments or questions should be directed to Oberloh.Geri@dol.gov.

SUPPLEMENTARY INFORMATION: Background: Over the period 1993 to 1997 two joint federal-state workgroups designed a comprehensive performance management system for UI, and gave it the name UI Performs. Two kinds of measures emerged from this process: Tier I measures for which minimum national criteria were set, and Tier II measures for which criteria were not set. Planning and budget cycles at the state level are structured around State Quality Service Plans (SQSP) which include performance objectives referenced to Tier I and Tier II measures.

The UI Performs design also called for a review of the system within five (5) years of implementation. This initial review and resulting recommendations are discussed below.

The Review. The review of UI Performs, which began with a request to state UI agencies to identify issues relevant to the UI Performs system, addressed: (a) Performance measures; (b) criteria used to gauge success against the measures; and (c) the administration of UI Performs. Issues raised by states, a proposal by the National Association of State Workforce Agencies (NASWA), and issues raised by Federal staff formed the basis for the review which was conducted in consultation with a NASWA workgroup. The consultative process clarified the issues and informed much of the proposed changes described below.

In Washington, DC on June 9, 2004.
Emily Stover DeRocco,
Assistant Secretary of Labor.

BILLING CODE 4510-30-P

[FR Doc. 04-13526 Filed 6-15-04; 8:45 am]

BILLING CODE 4510-30-C